DEPARTMENT OF STATE

[Public Notice: 12350]

Notice of U.S. State Department's Overseas Security Advisory Council Meeting

SUMMARY: The Department of State announces the meeting of the U.S. State Department's Overseas Security Advisory Council.

DATES: March 29, 2024.

FOR FURTHER INFORMATION CONTACT: Ellen K. Tannor, Overseas Security Advisory Council, U.S. Department of State, Washington, DC 20522-2008, phone: 571-345-2223 email: TannorE@state.gov.

SUPPLEMENTARY INFORMATION: Pursuant to the Federal Advisory Committee Act (5 U.S.C. 1009), the meeting will be open to the public. The open session is expected to be held virtually from 11 a.m. to 1 p.m. eastern time on March 29, 2024. Members of the public who wish to attend must RSVP to the Designated Federal Officer, Ellen Tannor, at osacadmin@state.gov not later than March 22, 2024, and will receive instructions on how to access the virtual meeting. Requests for reasonable accommodation should also be made at that time. Request made after March 22 will be considered but might be possible to fulfill.

The meeting will focus on examining the Private-Public Partnership process to explore how this construct may align with future collaborative strategic objectives.

(Authority: 5 U.S.C. 1001 et seq. and 5 U.S.C. 552)

Ellen K. Tannor,
Designated Federal Officer, Overseas Security Advisory Council, Department of State.

[FR Doc. 2024-04485 Filed 3-1-24; 8:45 am]

BILLING CODE 4710-43-P